ADVISORY COUNCIL ON HISTORIC PRESERVATION

Notice of Meeting

SUMMARY: Notice is hereby given that the Advisory Council on Historic Preservation (ACHP) will meet on Wednesday, November 7, 2007. The meeting will be held in Room M09 in the Old Post Office Building, 1100 Pennsylvania Ave, NW., Washington, DC at 9 a.m. The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call To Order—9 a.m.

I. Chairman's Welcome.

II. Preservation Awards Presentation.

III. Native American Activities.

A. Native American Advisory Group.

B. Native American Program Report.

IV. Implementation of ACHP Recommendations from the Preserve America Summit.

A. Meeting with Lead Agency Policy Officials.

B. Recommendations Implemented by the ACHP.

C. Preserve America/Save America's Treasures Authorizing Legislation.

V. Preservation Initiatives Committee.

A. Legislative Update.

B. Preserve America Update.

C. Economic and Community Development Benefits of Heritage Tourism Project.

VI. Federal Agency Programs Committee.

A. Alternate Procedures of Corps of Engineers' Appendix C.

B. National Park Service Programmatic Agreement.

C. Federal Agency Partnerships.

VII. Communications, Education, and Outreach Committee.

A. 2008 Preserve America Presidential Award Nominations.

B. Preserve America Video.

VIII. Chairman's Report.

A. ACHP Alumni Foundation.

B. ACHP FY 2008 Funding and FY 2009 Budget Request.

IX. Executive Director's Report.

X. New Business.

XI. Adjourn.

Note: The meetings of the ACHP are open to the public. If you need special accommodations due to a disability, please contact the Advisory Council on Historic Preservation, 1100 Pennsylvania Avenue, NW., Room 803, Washington DC, 202-606-8503, at least seven (7) days prior to the meeting.

FOR FURTHER INFORMATION CONTACT: Additional information concerning the meeting is available from the Executive Director, Advisory Council on Historic Preservation, 1100 Pennsylvania Avenue, NW., #803, Washington, DC 20004.

Dated: October 26, 2007.
Ralston Cox,
Acting Executive Director.

[FR Doc. 07-5409 Filed 10-30-07; 8:45 am]

BILLING CODE 4310-K6-M